DEPARTMENT OF DEFENSE

Office of the Secretary

[Docket ID: DOD-2018-OS-0042]

Notice of Availability for an Environmental Assessment Addressing Upgrade of the Main Gate Access Control Point at Defense Distribution Depot, San Joaquin, California, and Surrounding Area

AGENCY: Defense Logistics Agency (DLA), Department of Defense.

ACTION: Notice of availability (NOA).

SUMMARY: DLA announces the availability of an Environmental Assessment (EA) documenting the potential environmental effects associated with the proposed action to upgrade the main gate access control point at Defense Distribution Depot, San Joaquin, California, and surrounding area.

DATES: The public comment period will end on August 13, 2018.

ADDRESSES: You may submit comments, identified by DOD-2018-OS-0042, to one of the following:

Federal eRulemaking Portal: http://www.regulations.gov. Follow the instructions for submitting comments.

Mail: Department of Defense, Office of the Deputy Chief Management Officer, Directorate for Oversight and Compliance, Regulatory and Advisory Committee Division, 4800 Mark Center Drive, Mailbox #24, Suite 08D09, Alexandria, VA 22350-1700.

FOR FURTHER INFORMATION CONTACT: Ira Silverberg at 571-767-0705 during normal business hours Monday through Friday, from 8:00 a.m. to 4:30 p.m. (EDT) or by email: ira.silverberg@dla.mil.

SUPPLEMENTARY INFORMATION: The EA has been prepared as required under the National Environmental Policy Act (NEPA) and DLA Regulation 1000.22, Environmental Considerations in Defense Logistics Agency Actions.

The EA posted to the docket provides additional information about the proposed action.

The EA is available in hardcopy at the Tracy Branch Library, 20 East Eaton Avenue, Tracy, CA 95376.

Dated: July 9, 2018.
Shelly E. Finke,
Alternate OSD Federal Register, Liaison Officer, Department of Defense.

[FR Doc. 2018-14927 Filed 7-11-18; 8:45 am]

BILLING CODE 5001-06-P